DEPARTMENT OF ENERGY

Federal Energy Regulatory Commission

Combined Notice of Filings #1

Take notice that the Commission received the following exempt wholesale generator filings:

Docket Numbers: EG25-409-000.

Applicants: Crossroads Solar, LLC.

Description: Crossroads Solar, LLC submits Notice of Self-Certification of Exempt Wholesale Generator Status.

Filed Date: 7/25/25.

Accession Number: 20250725-5041.

Comment Date: 5 p.m. ET 8/15/25.

Take notice that the Commission received the following Complaints and Compliance filings in EL Dockets:

Docket Numbers: EL25-105-000.

Applicants: Ameren Illinois Company.

Description: Petition for Declaratory Order of Ameren Illinois Company.

Filed Date: 7/24/25.

Accession Number: 20250724-5153.

Comment Date: 5 p.m. ET 8/25/25.

Take notice that the Commission received the following electric rate filings:

Docket Numbers: ER24-506-003.

Applicants: Viridon Mid-Atlantic LLC.

Description: Compliance filing: Compliance Filing to be effective 2/5/2024.

Filed Date: 7/25/25.

Accession Number: 20250725-5128.

Comment Date: 5 p.m. ET 8/15/25.

Docket Numbers: ER25-2970-000.

Applicants: Dusty Rose Wind, LLC.

Description: § 205(d) Rate Filing: Application for Market-Based Rate Authorization—Dusty Rose Wind, LLC to be effective 9/23/2025.

Filed Date: 7/24/25.

Accession Number: 20250724-5145.

Comment Date: 5 p.m. ET 8/14/25.

Docket Numbers: ER25-2971-000.

Applicants: Keystone Appalachian Transmission Company.

Description: § 205(d) Rate Filing: KATCO submits Amended ECSA SA No. 7174 to be effective 9/24/2025.

Filed Date: 7/25/25.

Accession Number: 20250725-5010.

Comment Date: 5 p.m. ET 8/15/25.

Docket Numbers: ER25-2972-000.

Applicants: Jersey Central Power & Light Company.

Description: § 205(d) Rate Filing: JCPL submits Borderline Svc Agmt SA No. 7365 to be effective 9/24/2025.

Filed Date: 7/25/25.

Accession Number: 20250725-5012.

Comment Date: 5 p.m. ET 8/15/25.

Docket Numbers: ER25-2973-000.

Applicants: American Transmission Systems, Incorporated.

Description: § 205(d) Rate Filing: ATSI submits Amended Construction Agmts SA Nos. 7183, 6939 to be effective 9/24/2025.

Filed Date: 7/25/25.

Accession Number: 20250725-5024.

Comment Date: 5 p.m. ET 8/15/25.

Docket Numbers: ER25-2974-000.

Applicants: Crossroads Solar, LLC.

Description: § 205(d) Rate Filing: Application for Market-Based Rate Authority to be effective 9/24/2025.

Filed Date: 7/25/25.

Accession Number: 20250725-5034.

Comment Date: 5 p.m. ET 8/15/25.

Docket Numbers: ER25-2975-000.

Applicants: Central Maine Power Company.

Description: § 205(d) Rate Filing: Amendment to Wholesale Distribution Access Tariff to be effective 9/1/2025.

Filed Date: 7/25/25.

Accession Number: 20250725-5076.

Comment Date: 5 p.m. ET 8/15/25.

Docket Numbers: ER25-2976-000.

Applicants: PJM Interconnection, L.L.C.

Description: § 205(d) Rate Filing: Amendment to ISA, SA No. 7087; Queue No. AF1-062 to be effective 9/24/2025.

Filed Date: 7/25/25.

Accession Number: 20250725-5084.

Comment Date: 5 p.m. ET 8/15/25.

Docket Numbers: ER25-2977-000.

Applicants: Mount Storm Wind LLC.

Description: Compliance filing: Notice of Succession and Request for Waiver to be effective 7/8/2025.

Filed Date: 7/25/25.

Accession Number: 20250725-5087.

Comment Date: 5 p.m. ET 8/15/25.

Docket Numbers: ER25-2978-000.

Applicants: Alabama Power Company, Georgia Power Company, Mississippi Power Company.

Description: Tariff Amendment: Alabama Power Company submits tariff filing per 35.15: Flint River Solar (Flint Solar Project) LGIA Termination Filing to be effective 7/25/2025.

Filed Date: 7/25/25.

Accession Number: 20250725-5091.

Comment Date: 5 p.m. ET 8/15/25.

Docket Numbers: ER25-2979-000.

Applicants: Mount Storm Wind LLC.

Description: Compliance filing: Notice of Succession and Request for Waiver to be effective 7/8/2025.

Filed Date: 7/25/25.

Accession Number: 20250725-5092.

Comment Date: 5 p.m. ET 8/15/25.

Docket Numbers: ER25-2980-000.

Applicants: Alabama Power Company, Georgia Power Company, Mississippi Power Company.

Description: Tariff Amendment: Alabama Power Company submits tariff filing per 35.15: Origis Development (AL B Solar + Storage) LGIA Termination Filing to be effective 7/25/2025.

Filed Date: 7/25/25.

Accession Number: 20250725-5093.

Comment Date: 5 p.m. ET 8/15/25.

Docket Numbers: ER25-2981-000.

Applicants: Alabama Power Company, Georgia Power Company, Mississippi Power Company.

Description: Tariff Amendment: Alabama Power Company submits tariff filing per 35.15: NextEra Energy Resources (Lawrence Creek Solar) LGIA Termination Filing to be effective 7/25/2025.

Filed Date: 7/25/25.

Accession Number: 20250725-5098.

Comment Date: 5 p.m. ET 8/15/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 25, 2025.
Carlos D. Clay,
Deputy Secretary.

[FR Doc. 2025-14403 Filed 7-29-25; 8:45 am]

BILLING CODE 6717-01-P